DEPARTMENT OF COMMERCE

[Docket No.: 070703259-7518-02]

Privacy Act of 1974: System of Records

AGENCY: Department of Commerce.

ACTION: Notice to amend all Privacy Act System of Records.

SUMMARY: In accordance with the President's Identity Theft Task Force's Strategic Plan, the Department of Commerce (Commerce) publishes this notice to announce the effective date of a new routine use to be added to all Privacy Act System of Records.

DATES: The proposed new routine use becomes effective on September 24, 2007

ADDRESSES: For a copy of the system of records please mail requests to Brenda Dolan, U.S. Department of Commerce, Room 5327, 1401 Constitution Avenue, NW., Washington, DC 20230, 202-482-4258, BDolan1@doc.gov.

FOR FURTHER INFORMATION CONTACT: Brenda Dolan, U.S. Department of Commerce, Room 5327, 1401 Constitution Ave., NW., Washington, DC 20230.

SUPPLEMENTARY INFORMATION: On August 10, 2007, the Commerce published and requested comments on a proposed new routine use to be added to all Privacy Act System of Records. The new routine use for all Commerce systems of records permits disclosure to appropriate persons or entities for purposes of response and remedial efforts in the event of a suspected or confirmed breach of the data contained in the systems. No comments were received in response to the request for comments. By this notice, the Department is adopting the new routine use as final without changes effective September 25, 2007.

Dated: September 18, 2007.
Brenda Dolan,
U.S. Department of Commerce, Freedom of Information/Privacy Act Officer.

[FR Doc. E7-18750 Filed 9-21-07; 8:45 am]

BILLING CODE 3510-17-P